Title 3—

The President

Proclamation 8765 of December 8, 2011

Human Rights Day and Human Rights Week, 2011

By the President of the United States of America

A Proclamation

With the adoption of the Universal Declaration of Human Rights on December 10, 1948, the United Nations General Assembly affirmed the eternal truths that all people have the right to liberty, equality, and justice under the law. On Human Rights Day and during Human Rights Week, we celebrate our fundamental freedoms and renew our commitment to upholding and advancing human dignity.

The human race reflects a myriad of vibrant cultures and unique identities, yet we are united by the innate liberties that are our common birthright. The rights to assemble peacefully, to speak and worship as we please, and to determine our own destinies know no borders. All people should live free from the threat of extrajudicial killing, torture, oppression, and discrimination, regardless of gender, race, religion, nationality, sexual orientation, or physical or mental disability.

Dictators seek to constrain these liberties through repressive laws and blunt force, but hope cannot be imprisoned and aspirations cannot be killed. We are reminded of this when demonstrators brave bullets and batons to sound the call for reform, when young women dare to go to school despite prohibitions, and when same-sex couples refuse to be told whom to love. The past year saw extraordinary change in the Middle East and North Africa as square by square, town by town, country by country, people rose up to demand their human rights. Around the world, we witnessed significant progress in consolidating democracy and expanding freedoms, often facilitated by critical assistance from the international community.

In the 63 years since the global community came together in support of human dignity and adopted the Universal Declaration of Human Rights, our futures have grown increasingly interconnected. We have a stake not only in the stability of nations, but also in the welfare of individuals. On this anniversary, we recognize human rights as universal, and we stand with all those who reach for the dream of a free, just, and equal world.

NOW, THEREFORE, I, BARACK OBAMA, President of the United States of America, by virtue of the authority vested in me by the Constitution and the laws of the United States, do hereby proclaim December 10, 2011, as Human Rights Day and the week beginning December 10, 2011, as Human Rights Week. I call upon the people of the United States to mark these observances with appropriate ceremonies and activities.

IN WITNESS WHEREOF, I have hereunto set my hand this eighth day of December, in the year of our Lord two thousand eleven, and of the Independence of the United States of America the two hundred and thirty-sixth.

[FR Doc. 2011-32053

Filed 12-12-11; 8:45 am]

Billing code 3295-F2-P